DEPARTMENT OF HOMELAND SECURITY

Coast Guard

33 CFR Part 154

[USCG-1999-5150]

RIN 1625-AB37

Marine Vapor Control Systems; Correction

AGENCY: Coast Guard, DHS.

ACTION: Correcting amendments.

SUMMARY: This document contains corrections to the final regulations (RIN 1625-AB37) that were published in the Federal Register of Tuesday, July 16, 2013 (78 FR 42595). The regulations related to safety regulations for facility and vessel vapor control systems (VCSs).

DATES: Effective February 11, 2015.

FOR FURTHER INFORMATION CONTACT: If you have questions on this document, call or email Dr. Cynthia A. Znati, Office of Design and Engineering Standards, Hazardous Materials Division, U.S. Coast Guard; telephone 202-372-1412, email HazmatStandards@uscg.mil.

SUPPLEMENTARY INFORMATION:

Background

The final regulations that are the subject of these corrections affect persons who wish to serve as persons in charge of VCS certification, and the applicability of VCS recertification requirements. In 33 CFR 154.2010 (g), the current wording inadvertently limits the class of persons who may serve as a person in charge of VCS certification to persons who were licensed as professional engineers on or before August 15, 2014. With the passage of time, the current wording thus would prevent the entry of younger persons into VCS certification. This was not our intention. As discussed in the preamble to the final rule, in “Table 1—Discussion of Comments and Changes,” 78 FR at 42599, our intention was to amend § 154.2010(g) to provide a one-year phase-in period for persons wishing to certify VCSs but not licensed as professional engineers as of the final rule's effective date, August 15, 2013. Accordingly, we now correct § 154.2010(g) to clarify that a professional engineering license of any date is acceptable for purposes of paragraph (g), but that for persons wishing to be in charge of VCS certification, but not licensed as professional engineers on August 15, 2013, they had one year from that date to obtain their licenses.

In 33 CFR 154.2020 (b), the current wording inadvertently restricts the applicability of paragraph (b)'s recertification requirements to VCSs that were in operation prior to July 23, 1990. However, it is clear from the preamble to the final rule, in “Table 1—Discussion of Comments and Changes,” 78 FR at 42600, that we fully intended that newer VCSs also be recertified if they meet any of the conditions described in paragraphs (b)(1) through (b)(5). Nowhere in the NPRM or in the final rule did we suggest that recertification should be restricted to older VCSs. Accordingly, we now correct § 154.2020(b) to remove any reference to the July 23, 1990, break point.

Need for Correction

As published, the final regulations contain errors which may prove to be misleading and need to be clarified.

List of Subjects in 33 CFR Part 154

Alaska, Fire prevention, Hazardous substances, Incorporation by reference, Oil pollution, Reporting and recordkeeping requirements.

Accordingly, 33 CFR part 154 is corrected by making the following correcting amendments:

PART 154—FACILITIES TRANSFERRING OIL OR HAZARDOUS MATERIALS IN BULK

1. The authority citation for part 154 continues to read as follows:

Authority: 33 U.S.C. 1225, 1231, 1321(j)(1)(C), (j)(5), (j)(6), and (m)(2); sec. 2, E.O. 12777, 56 FR 54757; Department of Homeland Security Delegation No. 0170.1. Subpart F is also issued under 33 U.S.C. 2735. Vapor control recovery provisions of Subpart P are also issued under 42 U.S.C. 7511b(f)(2).

2. Revise paragraph (g) of § 154.2010 to read as follows:

§ 154.2010 Qualifications for acceptance as a certifying entity.

* * * * *

(g) The person in charge of VCS certification must be a licensed professional engineer in a U.S. State or territory. A person in charge of VCS certification who is not a licensed professional engineer on August 15, 2013 must obtain that license from a U.S. State or territory by August 15, 2014.

3. Revise the introductory text of paragraph (b) of § 154.2020 to read as follows:

§ 154.2020 Certification and recertification—owner/operator responsibilities.

* * * * *

(b) A certified VCS or a Coast Guard-approved VCS must be recertified by a certifying entity under 33 CFR 154.2023 before it can—

* * * * *

Dated: February 5, 2015.
K. Cervoni,
Chief, Office of Regulations and Administrative Law, U.S. Coast Guard.

[FR Doc. 2015-02713 Filed 2-10-15; 8:45 am]

BILLING CODE 9110-04-P